DEPARTMENT OF ENERGY

Federal Energy Regulatory Commission

Combined Notice of Filings

Take notice that the Commission has received the following Natural Gas Pipeline Rate and Refund Report filings:

Filings Instituting Proceedings

Docket Numbers: RP17-30-000.

Applicants: Algonquin Gas Transmission, LLC.

Description: § 4(d) Rate Filing: Negotiated Rates—Keyspan to BUG 792110 to be effective 11/1/2016.

Filed Date: 10/17/16.

Accession Number: 20161017-5047.

Comments Due: 5 p.m. ET 10/31/16.

Docket Numbers: RP17-31-000.

Applicants: Questar Overthrust Pipeline, LLC.

Description: § 4(d) Rate Filing: Off-System Services to be effective 11/17/2016.

Filed Date: 10/17/16.

Accession Number: 20161017-5050.

Comments Due: 5 p.m. ET 10/31/16.

Docket Numbers: RP17-32-000.

Applicants: Southern Natural Gas Company, L.L.C.

Description: § 4(d) Rate Filing: MGAG Mini Expansion Filing to be effective 12/1/2016.

Filed Date: 10/17/16.

Accession Number: 20161017-5057.

Comments Due: 5 p.m. ET 10/31/16.

Docket Numbers: RP17-33-000.

Applicants: Equitrans, L.P.

Description: § 4(d) Rate Filing: Equitrans' Clean-Up Filing—October 2016 to be effective 11/17/2016.

Filed Date: 10/17/16.

Accession Number: 20161017-5139.

Comments Due: 5 p.m. ET 10/31/16.

Docket Numbers: RP17-34-000.

Applicants: Iroquois Gas Transmission System, L.P.

Description: § 4(d) Rate Filing: 10/18/16 Negotiated Rates—Consolidated Edison Energy Inc. (RTS) 2275-09 to be effective 11/1/2016.

Filed Date: 10/18/16.

Accession Number: 20161018-5035.

Comments Due: 5 p.m. ET 10/31/16.

Docket Numbers: RP17-35-000.

Applicants: Iroquois Gas Transmission System, L.P.

Description: § 4(d) Rate Filing: 10/18/16 Negotiated Rates—Wells Fargo Commodities, LLC (RTS) 7810-02 to be effective 11/1/2016.

Filed Date: 10/18/16.

Accession Number: 20161018-5036.

Comments Due: 5 p.m. ET 10/31/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 18, 2016.
Nathaniel J. Davis, Sr.,
Deputy Secretary.

[FR Doc. 2016-25648 Filed 10-21-16; 8:45 am]

BILLING CODE 6717-01-P